DEPARTMENT OF COMMERCE

International Trade Administration

A-570-849

Certain Cut-to-Length Carbon Steel Plate From the People's Republic of China: Final Results of the 2007-2008 Administrative Review of the Antidumping Duty Order

AGENCY: Import Administration, International Trade Administration, Department of Commerce.

SUMMARY: On August 10, 2009, the Department of Commerce (“Department”) published Certain Cut-to-Length Carbon Steel Plate From the People's Republic of China: Preliminary Results and Partial Rescission of Antidumping Duty Administrative Review, 74 FR 39921 (August 10, 2009) (“Preliminary Results”). The period of review (“POR”) is November 1, 2007, through October 31, 2008. The administrative review covers one respondent, Hunan Valin Xiangtan Iron & Steel Co., Ltd. (“Valin Xiangtan”).

We invited interested parties to comment on our Preliminary Results. Based on our analysis of the comments received, we made certain changes to our margin calculation for Valin Xiangtan. The final dumping margin for this review is listed in the “Final Results Margins” section below.

EFFECTIVE DATE: February 24, 2010.

FOR FURTHER INFORMATION CONTACT: Demitrios Kalogeropoulos or Trisha Tran, AD/CVD Operations, Office 8, Import Administration, International Trade Administration, U.S. Department of Commerce, 14th Street and Constitution Avenue, NW, Washington, DC 20230; telephone: (202) 482-2623 and (202) 482-4852, respectively.

SUPPLEMENTARY INFORMATION:

Background

On August 10, 2009, the Department published its Preliminary Results in the antidumping duty administrative review of certain cut-to-length carbon steel plate (“CTL plate”) from the People's Republic of China (“PRC”).

On August 8, 2009, Valin Xiangtan and domestic interested party, Nucor Corporation (“Nucor”) submitted surrogate value information. On August 17, 2009 Valin Xiangtan submitted rebuttal comments for the surrogate value information submitted by Nucor. We received additional factual information regarding the implementation of export licenses on August 20, 2009, from Nucor and Valin Xiangtan. On September 2, 2009, we received the second supplemental Section D questionnaire response from Valin Xiangtan. On September 9, 2009, Nucor submitted a request for a formal hearing regarding issues raised in its case and rebuttal brief, and submitted a letter withdrawing the request for a hearing on October 16, 2009. Valin Xiangtan submitted its case brief and rebuttal brief on October 1, and October 13, 2009, respectively. Nucor submitted its case brief and rebuttal brief on October 1, and October 9, 2009, respectively. On October 9, 2009, Valin Xiangtan submitted comments regarding alleged new factual information in Nucor's case brief. On October 15, 2009, Nucor replied to the October 9, 2009, comments from Valin Xiangtan. On November 4, 2009, the Department drafted a Memo to the File stating that allegations of new factual information were unfounded. On November 20, 2009, the Department extended the deadline for the final results of review. See Certain Cut-to-Length Carbon Steel Plate from the People's Republic of China: Notice of Extension of Time Limit for Final Results of Administrative Review, 74 FR 60237 (November 20, 2009).

Analysis of Comments Received

All issues raised in the case and rebuttal briefs filed by parties in this review are addressed in the Memorandum from John M. Andersen, Acting Deputy Assistant Secretary for Antidumping and Countervailing Duty Operations, to Ronald K. Lorentzen, Deputy Assistant Secretary for Import Administration, regarding, Certain Cut-to-Length Carbon Steel Plate From the People's Republic of China: Issues and Decision Memorandum for the Final Results of the 2007-2008 Administrative Review, dated concurrently with this notice (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 1117, and is also accessible on the Web at http://ia.ita.doc.gov/frn. The paper copy and electronic version of the Issues and Decision Memorandum are identical in content.

Period of Review

The POR is November 1, 2007, through October 31, 2008.

Scope of the Order

The products covered by the order are hot-rolled carbon steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain carbon steel flat-rolled products in straight lengths, of rectangular shape, hot-rolled, neither clad, plated, nor coated with metal, whether or not painted, varnished, or coated with plastics or other nonmetallic substances, 4.75 mm or more in thickness and of a width which exceeds 150 mm and measures at least twice the thickness as currently classifiable in the Harmonized Tariff Schedule of the United States (“HTSUS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Included in the order are flat-rolled products of non-rectangular cross-section where such cross-section is achieved subsequent to the rolling process (i.e., products which have been “worked after rolling”)--for example, products which have been beveled or rounded at the edges. Excluded from the subject merchandise within the scope of this order and these Agreements is grade X-70 plate. Although the HTSUS subheadings are provided for convenience and customs purposes, our written description of the scope of the order and the Agreements is dispositive.¹

¹ Inadvertently, the scope listed in the Preliminary Results included the following language: “{a}lso excluded from the order is certain carbon cut-to-length steel plate with a maximum thickness of 80 mm in steel grades BS 7191, 355 EM, and 355 EMZ, as amended by Sable Offshore Energy Project specification XB MOO Y 15 0001, types 1 and 2.” This exclusion is not part of the scope, but was inadvertently included after a changed circumstances review on CTL plate from Finland, Germany, and the UK. See Certain Cut-To-Length Carbon Steel Plate from Finland, Germany and the United Kingdom: Final Results of Changed Circumstances Antidumping Duty and Countervailing Duty Reviews, and Revocation of Orders in Part, 64 FR 46343 (August 25, 1999). See also Continuation of Antidumping Duty Order on Certain Cut-to-Length Carbon Steel Plate from the People's Republic of China and Continuation of Suspended Antidumping Duty Investigations on Certain Cut-to-Length Carbon Steel Plate from the Russian Federation and Ukraine, 74 FR 57994 (November 10, 2009). Accordingly, this language is removed from the scope for these final results.

Changes Since the Preliminary Results

Based on an analysis of the comments received, the Department has made certain changes to the margin calculation for Valin Xiangtan. For the final results, the Department has made the following changes:

• We have revised the surrogate value for certain gas by-products. See Issues and Decisions Memorandum at Comment 5; see also Memorandum regarding, Factors Valuations for the Final Results of the 2007-2008 Administrative Review of the Antidumping Duty Order on Certain Cut-to-Length Carbon Steel Plate From the People's Republic of China, dated concurrently with this notice (“Final SV Memo”).

• We have revised the surrogate value for dolomite in our margin calculation. See Issues and Decisions Memorandum at Comment 6; see also Final SV Memo.

• We have granted certain by-product offsets in our margin calculation. See Issues and Decisions Memorandum at Comment 10; see also Memorandum regarding, 2007-2008 Administrative Review of the Antidumping Duty Order on Certain Cut-to-Length Carbon Steel Plate From the People's Republic of China: Analysis of the Final Results Margin Calculation for Valin Xiangtan, dated concurrently with this notice (“Final Analysis Memorandum”).

• We have fixed certain programming errors. See Issues and Decisions Memorandum at Comment 11; see also Final Analysis Memorandum.

• We have valued electrodes in our normal value calculation. See Issues and Decisions Memorandum at Comment 12; see also Final Analysis Memorandum.

Final Results Margin

We determine the weighted-average dumping margin for Valin Xiangtan for the period November 1, 2007, through October 31, 2008, to be 0.00 percent.

Assessment Rates

Pursuant to section 751(a)(2)(A) of the Act and 19 CFR 351.212(b), the Department will determine, and U.S. Customs and Border Protection (“CBP”) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to liquidate that importer (or customer's) entries of subject merchandise without regard to antidumping duties, in accordance with 19 CFR 351.106(c)(2). We intend to instruct CBP to liquidate entries containing subject merchandise exported by the PRC-wide entity at the estimated antidumping duty rate in effect at the time of entry. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: 1) for Valin Xiangtan, the cash deposit rate will be 0.00 percent, as listed above; 2) for previously investigated or reviewed PRC and non-PRC exporters not listed above that have separate rates, the cash deposit rate will continue to be the exporter-specific rate published for the most recent period; 3) for all PRC exporters of subject merchandise which have not been found to be entitled to a separate rate, the cash deposit rate will be the PRC-wide rate of 128.59 percent; and 4) for all non-PRC exporters of subject merchandise which have not received their own rate, the cash deposit rate will be the rate applicable to the PRC exporter that supplied that non-PRC exporter. The deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: February 16, 2010.
Ronald K. Lorentzen,
Deputy Assistant Secretary for Import Administration.

Appendix I

Comment 1: Whether to Deny Valin Xiangtan a Separate Rate

Comment 2: Whether the Department's Separate Rate Test is Flawed

Comment 3: Whether to Collapse Valin Xiangtan with Other Producers

Comment 4: Selection of POR for SVs, ME purchases, and FOP data

Comment 5: Surrogate Value of Certain Gas By-Products

Comment 6: Valuation of Dolomite

Comment 7: Valuation of Ferric Oxide

Comment 8: Selection of Financial Statements

Comment 9: Treatment of Subsidized Countries in Import Statistics

Comment 10: Whether to Grant By-Product Offsets

Comment 11: Programming Errors - Distances

Comment 12: Valuing Electrodes

[FR Doc. 2010-3743 Filed 2-23-10; 8:45 am]

BILLING CODE 3510-DS-S